DEPARTMENT OF THE INTERIOR

National Park Service

[NPS-WASO-NRNHL-DTS#-36767; PPWOCRADI0, PCU00RP14.R50000]

National Register of Historic Places; Notification of Pending Nominations and Related Actions

AGENCY: National Park Service, Interior.

ACTION: Notice.

SUMMARY: The National Park Service is soliciting electronic comments on the significance of properties nominated before October 7, 2023, for listing or related actions in the National Register of Historic Places.

DATES: Comments should be submitted electronically by October 31, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before October 7, 2023. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name (if applicable), Address/Boundary, City, Vicinity, Reference Number.

ALABAMA

Baldwin County

Jenkins Farm and House (Boundary Increase), 29040 Jenkins Farm Rd., Loxley, BC100009548

Lowndes County

Campsite 2: Rosie Steele Property, 5892-5876 Highway 80 W, White Hall vicinity, SG100009549

Morgan County

Simpson's Florist, 902 6th Avenue SE, Decatur, SG100009550

KANSAS

Douglas County

Lone Star Lake Civilian Conservation Corps (CCC) Camp, (New Deal-Era Resources of Kansas MPS), 660 E 665 Road, Lawrence vicinity, MP100009545

WEST VIRGINIA

Morgan County

Paw Paw Old Mayor's Office and Jail, 93 Lee Street, Paw Paw, SG100009542

Randolph County

Davis & Elkins College Historic District

Portions of Campus Drive, Harpertown Road, Graceland Drive, Allen Street & Residential Drive, and College Drive, Elkins, SG100009540

Wayne County

Stark, Henry and Julia Hoard, House, 359 B Street, Ceredo, SG100009543

Wood County

Downtown Parkersburg Historic District, Portions of Juliana, Market, Avery, and Second through Eighth Streets and Williams Court Alley and Phillips Court Alley, Parkersburg, SG100009541

WISCONSIN

Dane County

Willard and Fern Tompkins House, 110 Henuah Circle, Monona, SG100009539

A request for removal has been made for the following resource(s):

NORTH DAKOTA

Golden Valley County

Sentinel Butte Public School, Byron St., Sentinel Butte, OT82001313

Additional documentation has been received for the following resource(s):

ILLINOIS

Kane County

Aurora Broadway Historic District (Additional Documentation), Roughly bounded by the Fox R., East New York St., the Burlington Northern & Santa Fe Railroad tracks, and East Benton St., Aurora, AD100008483

MISSISSIPPI

Panola County

Como Commercial Historic District, (Johnson, Andrew, Architecture in North Mississippi TR), Roughly bounded by Elder Frank Ward St. on the W and N Main St. on the E. On the N bounded by Church Ave., Como, AD08000675

Authority: Section 60.13 of 36 CFR part 60.

Sherry A. Frear,
Chief, National Register of Historic Places/National Historic Landmarks Program.

[FR Doc. 2023-22771 Filed 10-13-23; 8:45 am]

BILLING CODE 4312-52-P